DEPARTMENT OF TRANSPORTATION

Federal Aviation Administration

14 CFR Part 71

[Docket No. FAA-2005-23436; Airspace Docket No. 05-ASO-10]

RIN 2120-AA66

Establishment of Area Navigation Instrument Flight Rules Terminal Transition Route (RITTR) T-210; Jacksonville, FL

AGENCY: Federal Aviation Administration (FAA), DOT.

ACTION: Final rule.

SUMMARY: This action establishes a RITTR, designated T-210, in the Jacksonville, FL, terminal area. The purpose of this route is to expedite the handling of Instrument Flight Rules (IFR) overflight aircraft transitioning through busy terminal airspace. The FAA is taking this action to enhance the safe and efficient use of the navigable airspace in the Jacksonville, FL, terminal area.

DATES: Effective Date: 0901 UTC, June 8, 2006.

FOR FURTHER INFORMATION CONTACT: Paul Gallant, Airspace and Rules, Office of System Operations Airspace and AIM, Federal Aviation Administration, 800 Independence Avenue, SW., Washington, DC 20591; telephone: (202) 267-8783.

SUPPLEMENTARY INFORMATION:

History

On January 9, 2006, the FAA published in the Federal Register a notice of proposed rulemaking to establish route T-210 in the Jacksonville, FL, terminal area (71 FR 1397). Interested parties were invited to participate in this rulemaking proceeding by submitting written comments on this proposal to the FAA. One comment was received in response to the proposal.

Analysis of Comment

The Aircraft Owners and Pilots Association (AOPA) wrote in support of the proposal. AOPA noted that the NPRM did not list a defined altitude for T-210 and recommended that the route be available at multiple altitudes to allow users to take full advantage of the benefits of RITTR. AOPA also asked the FAA to incorporate guidance into FAA publications to allow pilots operating under Visual Flight Rules (VFR) to use the route when transitioning through terminal airspace.

The FAA confirms that the route will be available at various altitudes in the low altitude structure within the airspace assigned to Jacksonville Terminal Radar Approach Control (TRACON). These altitudes will vary depending on factors such as direction of flight, filed altitude, air traffic volume, etc. Altitudes will be assigned by either Jacksonville TRACON or Jacksonville Air Route Traffic Control Center (ARTCC).

The FAA does not plan to issue guidance regarding VFR use of RITTRs at this time. RITTRs were developed specifically to provide routing for Global Navigation Satellite System (GNSS)-equipped aircraft that are operating on an IFR flight plan, to transition through busy terminal areas. The fixes/waypoints used to define the routes do not have associated visual landmarks for reference by VFR pilots when navigating through the area. Pilots of suitably equipped VFR aircraft could utilize the route for navigation, in compliance with all applicable VFR regulations. This is similar to current practice where a pilot operating in accordance with VFR may use a Very High Frequency Omni-directional Range Federal airway for navigation.

RITTRs are low altitude RNAV routes and are published under Area Navigation Routes in paragraph 6011 of FAA Order 7400.9N dated September 1, 2006 and effective September 15, 2006, which is incorporated by reference in 14 CFR 71.1. The RITTR route listed in this document will be published subsequently in the order.

The Rule

This action amends Title 14 Code of Federal Regulations (14 CFR) part 71 by establishing route T-210 in the Jacksonville, FL, terminal area. The route may be used by GNSS-equipped aircraft that are capable of filing flight plan equipment code “/G.” The route will be depicted in blue on the appropriate IFR en route low altitude charts. The FAA is taking this action to enhance safety and the flexible and efficient use of the navigable airspace by en route IFR aircraft transitioning through the Jacksonville, FL, terminal area.

In the NPRM, the point BRADO was erroneously identified as a “WP” (waypoint). This point is currently a charted navigation fix, therefore, an editorial change is being made in this rule to replace “WP” with “Fix” in the description of BRADO. With the exception of this change, this amendment is the same as that proposed in the notice.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9N, Airspace Designations and Reporting Points, dated September 1, 2005, and effective September 15, 2005, is amended as follows:

Paragraph 6011 Area Navigation Routes

* * * * *

T 210 BRADO, FL to Taylor, FL [New]
BRADO, FL | Fix | (Lat. 29°55′22″ N., long. 81°28′08″ W.)
OHLEE, FL | WP | (Lat. 30°16′00″ N., long. 82°06′34″ W.)
Taylor, FL (TAY) | VORTAC | (Lat. 30°30′17″ N., long. 82°33′10″ W.)

* * * * *

Issued in Washington, DC, on March 21, 2006.
Edith V. Parish,
Manager, Airspace and Rules.

[FR Doc. 06-2920 Filed 3-24-06; 8:45 am]

BILLING CODE 4910-13-P